DEPARTMENT OF TRANSPORTATION

Surface Transportation Board

[STB Finance Docket No. 33782]

Entergy Arkansas and Entergy Rail—Construction and Operation Exemption—White Bluff to Pine Bluff, AR

AGENCY: Surface Transportation Board.

ACTION: Notice of exemption.

SUMMARY: Under 49 U.S.C. 10502, the Board conditionally exempts from the prior approval requirements of 49 U.S.C. 10901 the construction and operation by Entergy Rail of an 8.6-mile line of railroad from White Bluff to Pine Bluff, AR.

DATES: The exemption will not become effective until the environmental review process is completed. The Board will then issue a further decision addressing the environmental matters and establishing an exemption effective date, if appropriate. Petitions to reopen must be filed by May 24, 2000.

ADDRESSES: Send pleadings, referring to STB Finance Docket No. 33782, to: (1) Surface Transportation Board, Office of the Secretary, Case Control Unit, 1925 K Street, N.W., Washington, DC 20423-0001; and (2) John R. Molm, Troutman Sanders LLP, 1300 I Street, N.W., Suite 500 East, Washington, DC 20005-3314.

FOR FURTHER INFORMATION CONTACT: Julia M. Farr, (202) 565-1613. [TDD for the hearing impaired: 1-800-877-8339.]

SUPPLEMENTARY INFORMATION: Additional information is contained in the Board's decision available on our website at “WWW.STB.DOT.GOV.”

Decided: April 25, 2000.
By the Board, Chairman Morgan, Vice Chairman Burkes, and Commissioner Clyburn.
Vernon A. Williams,
Secretary.

[FR Doc. 00-10784 Filed 5-3-00; 8:45 am]

BILLING CODE 4915-00-P